DEPARTMENT OF ENERGY

Federal Energy Regulatory Commission

[Docket No. RP00-162-007]

Panhandle Eastern Pipe Line Company; Notice of Proposed Changes in FERC Gas Tariff

July 7, 2000.

Take notice that on June 30, 2000, Panhandle Eastern Pipe Line Company (Panhandle) tendered for filing as part of its FERC Gas Tariff, First Revised Volume No. 1, revised tariff sheet to be effective May 22, 2000 and June 1, 2000, as noted on Appendix A attached to the filing.

Panhandle states that the purpose of this filing is to reflect on the Rate Schedule HFT tariff rate sheet the rate adjustments and fuel reimbursement percentages that were filed during the Rate Schedule HFT was suspended.

Panhandle states that copies of this filing are being served on all affected customers, applicable state regulatory agencies and parties to this proceeding.

Any person desiring to protest this filing should file a protest with the Federal Energy Regulatory Commission, 888 First Street, N.E., Washington, D.C. 20426, in accordance with Section 385.211 of the Commission's Rules and Regulations. All such protests must be filed as provided in Section 154.210 of the Commission's Regulations. Protests will be considered by the Commission in determining the appropriate action to be taken, but will not serve to make protesants parties to the proceedings. Copies of this filing are on file with the Commission and are available for public inspection in the Public Reference Room. This filing may be viewed on the web at http://www.ferc.fed.us/online/rims.htm (call 202-208-2222 for assistance).

David P. Boergers,
Secretary.

[FR Doc. 00-17742 Filed 7-12-00; 8:45 am]

BILLING CODE 6717-01-M